DEPARTMENT OF DEFENSE

Department of the Navy

Notice of Intent To Prepare a Supplemental Environmental Impact Statement for Land-Water Interface and Service Pier Extension at Naval Base Kitsap Bangor, Washington; Correction

AGENCY: Department of the Navy, DoD.

ACTION: Notice; correction.

SUMMARY: The Department of the Navy (Navy) published in the Federal Register on March 13, 2017, a Notice of Intent (NOI) to prepare a Supplemental Environmental Impact Statement (EIS) for Land-Water Interface (LWI) and Service Pier Extension (SPE) at Naval Base Kitsap Bangor, Washington. The NOI referenced an incorrect project Web site address.

FOR FURTHER INFORMATION CONTACT: Ms. Kimberly Kler, LWI/SPE Supplemental EIS Project Manager, 360-396-0927.

Correction

In the Federal Register of March 13, 2017 (82 FR 13437), in the third column, correct the FOR FURTHER INFORMATION CONTACT caption to read:

FOR FURTHER INFORMATION CONTACT: Naval Facilities Engineering Command Northwest, 1101 Tautog Circle, Silverdale, Washington 98315-1101, Attn: Ms. Kimberly Kler, LWI/SPE Supplemental EIS Project Manager, 360-396-0927, or project Web site: http://www.nbkeis.com/lwi.

Dated: March 15, 2017.
A. M. Nichols,
Lieutenant Commander, Judge Advocate General's Corps, U.S. Navy, Federal Register Liaison Officer.

[FR Doc. 2017-05527 Filed 3-20-17; 8:45 am]

BILLING CODE 3810-FF-P